FEDERAL COMMUNICATIONS COMMISSION

47 CFR Part 73

[MB Docket No. 21-60; RM-11884; DA 21-203; FR ID 17521]

Television Broadcasting Services Superior and York, Nebraska

AGENCY: Federal Communications Commission.

ACTION: Proposed rule.

SUMMARY: The Commission has before it a petition for rulemaking filed by Gray Television Licensee, LLC (Gray or Licensee), the licensee of television station KSNB-TV, channel 4, Superior, Nebraska, requesting an amendment of the DTV Table of Allotments to delete VHF channel 4 at Superior, Nebraska and allot it to York, Nebraska, and substitute UHF channel 24 at York for channel 4.

DATES: Comments must be filed on or before April 21, 2021 and reply comments on or before May 6, 2021.

ADDRESSES: Federal Communications Commission, Office of the Secretary, 45 L Street NE, Washington, DC 20554. In addition to filing comments with the FCC, interested parties should serve counsel for petitioner as follows: Joan Stewart, Esq., Wiley Rein LLP, 1776 K Street NW, Washington, DC 20006.

FOR FURTHER INFORMATION CONTACT: Joyce Bernstein, Media Bureau, at (202) 418-1647 or Joyce.Bernstein@fcc.gov.

SUPPLEMENTARY INFORMATION: According to Gray, problems with the reception of low-band digital channels are well known, and many viewers who receive a predicted principal community signal from KSNB-TV on channel 4 are unable to receive a reliable over-the-air signal, particularly when using indoor antennas. Gray also applied to co-locate KSNB-TV with commonly-owned KOLN, Lincoln, Nebraska, a move of approximately 23.5 kilometers, and a change in community from Superior to York is necessary for KSNB-TV to make that move because it cannot put the required principal community signal over Superior from a channel 24 facility on the KOLN tower.

Gray asserts that York qualifies as a community for allotment purposes, has no local television allotment, and is the largest community in York County. Petitioner further asserts that while Superior will lose its only local television allotment, York is more deserving of an allotment, given its size and community and economic attributes. Thus, Gray seeks a waiver of the Commission policy that the removal of a community's first local service is presumptively inconsistent with the public interest except in the rare instance where removal might serve the public interest. Gray further requests a waiver of § 1.420(i) of the rules which provides that the Commission may modify a station's community of license without affording competing expressions of interest, where the modified facility is mutually exclusive; the channel 24 proposal at York is not mutually exclusive with KSNB-TV's current licensed operation on channel 4 at Superior.

The NPRM proposes to grant both requested waivers and seeks comment on those proposals. York is a larger community than Superior and allowing KSNB-TV to colocate with KOLN on channel 24 will result in important public benefits. In addition, the NPRM proposes to grant a waiver of § 1.420 of the rules; Gray has demonstrated that multiple channels are potentially available for future allotment in and around Superior, so that future applicants will not be deprived of the opportunity to apply for a station in the area if Gray's proposal is not opened for competing expressions of interest.

This is a synopsis of the Commission's Notice of Proposed Rulemaking, MB Docket No. 21-69; RM-11884; DA 21-203, adopted February 22, 2021, and released February 22, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, and 339.

2. In § 73.622(i), amend the Post-Transition Table of DTV Allotments under Nebraska by revising the entry for Superior, and adding, in alphabetical order, an entry for York to read as follows:

§ 73.622 Digital television table of allotments.

* * * * *

(i) Post-Transition Table of DTV Allotments.

Community | Channel No.
* * * * *
Nebraska
* * * * *
Superior |
York | 24
* * * * *

[FR Doc. 2021-04769 Filed 3-19-21; 8:45 am]

BILLING CODE 6712-01-P